DEPARTMENT OF STATE

[Public Notice 7099]

Notice of Meeting

Title: Shipping Coordinating Committee; Notice of Committee Meeting.

The Shipping Coordinating Committee (SHC) will conduct two separate open meetings on September 2 and September 10 at the United States Coast Guard Headquarters Building, 2100 Second Street, SW., Washington, DC 20593-0001. The primary purpose of the September 2 meeting is to prepare for the fifteenth Session of the International Maritime Organization (IMO) Sub-Committee on Dangerous Goods, Solid Cargoes and Containers (DSC) to be held at the IMO headquarters in London, United Kingdom, from September 13 to September 17, 2010. This SHC meeting will begin at 10 a.m. and will be held in room 1303.

The primary matters to be considered at the DSC meeting include:

— Amendments to the International Maritime Dangerous Goods (IMDG) Code and Supplements including harmonization of the IMDG Code with the United Nations Recommendations on the Transport of Dangerous Goods.

—Amendments to the International Maritime Solid Bulk Cargoes Code (IMSBC Code) including evaluation of properties of solid bulk cargos.

—Casualty and incident reports and analysis.

—Guidance on protective clothing.

—Revision of the Code of Safe Practice for Ships Carrying Timber Deck Cargoes.

—Stowage of water-reactive materials.

—Review of the Guidelines for packing of cargo transport units.

—Revision of the Recommendations for entering enclosed spaces aboard ships.

—Consideration for the efficacy of Container Inspection Programme.

—Installation of equipment for detection of radioactive sources or radioactive contaminated objects in ports.

—Amendments to the International Convention for Safe Containers, 1972 and associated circulars.

The primary purpose of the September 10 meeting is to prepare for the sixty-first Session of the International Maritime Organization (IMO) Marine Environmental Protection Committee (MEPC) to be held at the IMO Headquarters, United Kingdom, from September 27 to October 1, 2010. This SHC meeting will begin at 9:30 a.m. and be held in room 2415.

The primary matters to be considered at the MEPC meeting include:

—Harmful aquatic organisms in ballast water

—Recycling of ships

—Prevention of air pollution from ships

—Reduction of Greenhouse Gas emissions from Ships

—Consideration and adoption of amendments to mandatory instruments

—Interpretations of and amendments to MARPOL and related instruments

—Implementation of the International Convention on Oil Pollution Preparedness, Response and Cooperation (OPRC) and the OPRC-Hazardous and Noxious Substances Protocol and relevant conference resolutions

—Identification and protection of Special Areas and Particularly Sensitive Sea Areas

—Inadequacy of reception facilities

—Reports of sub-committees

—Work of other bodies

—Status of conventions

—Harmful anti-fouling systems for ships

—Promotion of implementation and enforcement of MARPOL and related instruments

—Technical Cooperation Sub-program for the Protection of the Marine Environment

—Role of the human element

—Formal safety assessment

—Noise from commercial shipping and its adverse impacts on marine life

—Work program of the Committee and subsidiary bodies

—Application of the Committees' Guidelines

—Election of the Chairman and Vice-Chairman for 2011

—Any other business

—Consideration of the report of the Committee

Members of the public may attend the two meetings up to the seating capacity of the rooms. To facilitate the building security process and request reasonable accommodations, those who plan to attend one or both of the two meetings should contact the following coordinators at least 7 days prior to the meetings:

—For the September 2nd DSC meeting, contact Mr. Richard Bornhorst, by e-mail at richard.c.bornhorst@uscg.mil, by phone at (202) 372-1426, by fax at (202) 372-1925, or in writing at Commandant (CG-5212), U.S. Coast Guard, 2100 2nd Street, SW., Stop 7126, Washington, DC 20593-7126.

—For the September 10th MEPC meeting, contact LCDR Brian Moore, by e-mail at brian.e.moore@uscg.mil, by phone at (202) 372-1434, by fax at (202) 372-1925, or in writing at Commandant (CG-5224), U.S. Coast Guard, 2100 2nd Street, SW., Stop 7126, Washington, DC 20593-7126.

Requests for reasonable accommodation not made at least 7 days prior to the SHC meeting might not be able to be accommodated. Please note that due to security considerations, two valid, government issued photo identifications must be presented to gain entrance to the Headquarters building. The Headquarters building is accessible by taxi and privately owned conveyance (public transportation is not generally available). However, parking in the vicinity of the building is extremely limited. Additional information regarding this and other IMO SHC public meetings may be found at: http://www.uscg.mil/imo.

Dated: August 2, 2010.
Jon Trent Warner,
Executive Secretary, Shipping Coordinating Committee, Department of State.

[FR Doc. 2010-19615 Filed 8-6-10; 8:45 am]

BILLING CODE 4710-09-P